FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 20, 2017.

A. Federal Reserve Bank of Kansas City (Dennis Denney, Assistant Vice President) 1 Memorial Drive, Kansas City, Missouri 64198-0001:

1. Peter Chase, Eastborough, Kansas and members of the Chase Family control group, Cynthia Chase, Derby, Kansas; Kyler Chase, Minneapolis, Minnesota; Brayden Chase, Overland Park, Kansas; Jantzen Chase, Shawnee, Kansas; The Kevin Chase and Cindy Chase Living Trust dated December 31, 2016; The Alex J. Chase Irrevocable Trust dated December 13, 2016; The Addison S. Chase Irrevocable Trust dated December 31, 2016; The Kyler J. Chase Irrevocable Trust dated December 13, 2016; the Brayden J. Chase Irrevocable Trust dated December 13, 2016; and The Jantzen J. Chase Irrevocable Trust dated December 13, 2016; to acquire/retain shares of First Team Resources Corporation, Derby, Kansas, and thereby retain/acquire shares of Verus Bank, Derby Kansas.

Board of Governors of the Federal Reserve System, November 29, 2017.
Ann E. Misback,
Secretary of the Board.

[FR Doc. 2017-26054 Filed 12-1-17; 8:45 am]

BILLING CODE 6210-01-P